DEPARTMENT OF HEALTH AND HUMAN SERVICES

National Institutes of Health

National Institute of Environmental Health Sciences; Amended Notice of Meeting

Notice is hereby given of a change in the meeting of the Interagency Breast Cancer and Environmental Research Coordinating Committee (IBCERC) Research Process Subcommittee, June 14, 2011, 1 p.m. to 4 p.m., NIEHS/National Institutes of Health, Building 4401, East Campus, 79 T.W. Alexander Drive, Research Triangle Park, NC 27709, which was published in the Federal Register on May 3, 2011, 76 FR 24896.

This notice is being amended to change the June Research Process Subcommittee meeting to June 20, 2011, from 1 p.m. to 3 p.m. The meeting is open to the public.

Dated: May 19, 2011.
Jennifer S. Spaeth,
Director, Office of Federal Advisory Committee Policy.

[FR Doc. 2011-13122 Filed 5-25-11; 8:45 am]

BILLING CODE 4140-01-P